OFFICE OF THE UNITED STATES TRADE REPRESENTATIVE

Notice of the 2020 Generalized System of Preferences (GSP) Annual Review and the Deadline for Filing Petitions

AGENCY: Office of the United States Trade Representative.

ACTION: Notice of available statistics and announcement of the 2020 GSP Annual Review.

SUMMARY: The Office of the United States Trade Representative (USTR) will consider petitions to modify the GSP status of GSP beneficiary developing countries (BDCs) because of country practices; add products to GSP eligibility; remove products from GSP eligibility for one or more countries; waive competitive need limitations (CNLs); deny de minimis waivers for eligible products; or redesignate currently excluded products. This review will include separate hearings on accepted country practice review and product petitions, which USTR will announce in the Federal Register at a later date.

DATES: March 26, 2020 at 11:59 p.m. EST: Deadline for submission of petitions to modify the GSP status of GSP BDCs because of country practices; add products to GSP eligibility; remove products from GSP eligibility for one or more countries; waive CNLs; deny de minimis waivers for eligible products; or redesignate currently excluded products. USTR will not consider petitions submitted after the deadline. USTR will announce the petitions accepted for review, along with a schedule for any related public hearings, and the opportunity for the public to provide comments at a later date.

ADDRESSES: USTR strongly prefers electronic submissions made through the Federal eRulemaking portal: http://www.regulations.gov (Regulations.gov). Follow the instructions for submitting petitions in section III below. For alternatives to online submissions, please contact Claudia Chlebek in advance of the submission deadline at gsp@ustr.eop.gov, or 202-395-2974.

FOR FURTHER INFORMATION CONTACT: Claudia Chlebek at gsp@ustr.eop.gov, or 202-395-2974.

SUPPLEMENTARY INFORMATION: The GSP program provides for the duty-free treatment of designated articles when imported from designated BDCs. The GSP program is authorized by Title V of the Trade Act of 1974, as amended (Trade Act) (19 U.S.C. 2461-2467), and is implemented in accordance with Executive Order 11888 of November 24, 1975, as modified by subsequent Executive Orders and Presidential Proclamations.

I. 2019 Import Statistics Related to CNLs, De Minimis Waivers, and Product Redesignations

USTR has posted the 2019 import statistics relating to CNLs, de minimis waivers, and product redesignations on the USTR website at https://ustr.gov/sites/default/files/IssueAreas/gsp/2020_GSP_Annual_Review-2019_Import_Statistics.pdf. These statistics include three lists:

List I identifies GSP-eligible articles from BDCs that exceeded a CNL in 2019 by having been imported into the United States in a quantity valued in excess of $190 million, or in a quantity equal to or greater than 50 percent of the total U.S. import value for this product in 2019. Unless the President grants a waiver in response to a petition filed by an interested party, these products automatically will be removed from GSP eligibility on November 1, 2020.

List II identifies GSP-eligible articles from BDCs that are above the 50 percent CNL but are eligible for a de minimis waiver since total U.S. imports of the product in 2019 were less than $24.5 million. Articles eligible for de minimis waivers automatically are considered in the GSP annual review process without the filing of a petition. As described below, USTR only will accept petitions in opposition to a potential de minimis waiver for a particular product.

List III identifies GSP-eligible articles from certain BDCs that currently are not receiving GSP duty-free treatment but may be considered for GSP redesignation based on 2019 trade data and consideration of certain statutory factors. Note that products exceeding the 50 percent CNL may be considered for redesignation if there was no U.S. production of a like or directly competitive product in the last three years.

List IV identifies GSP-eligible articles from BDCs that currently have a CNL waiver but where imports of the article have exceeded 150 percent of the CNL or 75 percent of the appraised value of total imports of that article. Unless the President grants a continuation of the waiver in response to a petition filed by an interested party, these products will be removed from GSP eligibility on November 1, 2020.

II. 2020 GSP Annual Review

A. Country Practice Review Petitions

An interested party may submit a petition to review the GSP eligibility of any BDC with respect to any of the designation criteria listed in sections 502(b) and 502(c) of the Trade Act (19 U.S.C. 2462(b) and (c)). The docket number is USTR-2020-0003.

B. Product Review Petitions

An interested party may submit the following petitions:

Product addition petitions: Petitions to designate additional articles as eligible for GSP benefits, including designating articles as eligible only for countries designated as least-developed beneficiary developing countries (LDBDCs), or as beneficiary sub-Saharan African countries under the African Growth and Opportunity Act (AGOA). Petitioners seeking to add products to eligibility for GSP benefits should note that, as provided in section 503(b) of the Trade Act (19 U.S.C. 2463(b)), certain articles may not be designated as eligible articles under GSP. The docket number is USTR-2020-0004.

Product removal petitions: Petitions to remove, suspend, or limit the application of duty-free treatment accorded under GSP with respect to any article. The docket number is USTR-2020-0005.

CNL waiver petitions: Any interested party may submit a petition seeking a waiver of the 2020 CNL for individual BDCs with respect to specific GSP-eligible articles (these limits, however, do not apply to LDBDCs or AGOA beneficiary countries). Interested parties filing CNL waiver petitions should indicate whether there was production of a like or directly competitive product in the United States during the previous three calendar years (that is, 2017 to 2019). The docket number is USTR-2020-0006.

Petitions for denial of de minimis waivers: USTR automatically will consider all de minimis waivers. Thus, USTR will only accept petitions to deny de minimis waivers for particular products. The docket number is USTR-2020-0007.

Petitions for redesignation: Interested parties may file petitions to grant redesignation of products for which import quantities are below the dollar value CNL ($190 million for 2019) and below 50 percent of total U.S. imports. If a petitioner believes there has been no U.S. production of a like or directly competitive product in the past three years, USTR also will consider petitions to grant redesignation of products for which imports are below the dollar value CNL ($190 million for 2019) but that exceed 50 percent of total U.S. imports. The docket number is USTR-2020-0008.

III. Requirements for Submissions

A. Docket Numbers

To submit petitions, use the following docket numbers:

Country Practice Review Petitions: Docket number USTR-2020-0003.

Product Addition Petitions: Docket number USTR-2020-0004.

Product Removal Petitions: Docket number USTR-2020-0005.

CNL Waiver Petitions: Docket number USTR-2020-0006.

Petitions for Denial of De Minimis Waivers: Docket number USTR-2020-0007.

Petitions for Redesignation: Docket number USTR-2020-0008.

B. General Requirements

All submissions for the 2020 GSP annual review must conform to the GSP regulations set forth at 15 CFR part 2007 (https://www.ecfr.gov/cgi-bin/text-idx?SID=2688e93e7a801d4294d011d7afcc7347&mc=true&node=pt15.3.2007&rgn=div5), except as modified below.

All submissions must be in English and submitted electronically via Regulations.gov using the docket number for the type of petition listed in section III.A above. USTR will not accept hand-delivered submissions.

To make a submission via Regulations.gov, enter the corresponding docket number for the type of petition in the `search for' field on the home page and click `search.' The site will provide a search-results page listing all documents associated with this docket. Find a reference to this notice by selecting `notice' under `document type' in the `filter results by' section on the left side of the screen and click on the link entitled `comment now.' For additional information on using the Regulations.gov website, please consult the resources provided on the website by clicking on `how to use this site' on the left side of the home page.

The Regulations.gov website allows users to provide comments by filling in a `type comment' field or by attaching a document using the `upload file(s)' field. USTR prefers that you provide submissions in an attached document.

Submissions should not exceed 30 single-spaced, standard letter-size pages in 12-point type, including attachments. Include any data attachments to the submission in the same file as the submission itself, and not as separate files.

Submissions should follow the following format:

In the top left corner of the first page, the following information should appear:

• 2020 GSP Annual Review.

• Petition type (e.g., Petition for continuation of a CNL waiver, Country Practice Review Petition, etc.).

• For product petitions: The eight or ten digit Harmonized Tariff Schedule of the United States (HTSUS) subheading number in which the product is classified.

• For country practice petitions: The name of the country.

• If the product petition is for a specific BDC, the name of the BDC.

• Name of the entity submitting the petition.

You should save your petition with a title similar to the bullets above, e.g., petition type—the eight or ten digit HTSUS number or country name—if needed for product petition, country name—name of entity submitting the petition. To meet length constraints, you can use acronyms and abbreviations in submission titles.

You will receive a tracking number confirming that your submission was received into Regulations.gov that you should keep for your records.

USTR is not responsible for any delays in a submission due to technical difficulties, and is unable provide any technical assistance for Regulations.gov. USTR may not consider documents that you do not submit in accordance with these instructions.

If you cannot provide submissions as requested, please contact Claudia Chlebek in advance of the submission deadline at gsp@ustr.eop.gov or (202) 395-2974 to arrange for an alternative method of transmission.

C. Business Confidential Petitions

You must clearly designate business confidential information (BCI) by marking the submission `BUSINESS CONFIDENTIAL' at the top and bottom of the cover page and each succeeding page, and indicating, via brackets, the specific information that is confidential.

A submitter requesting that USTR treat information in a submission as BCI must certify that the information is business confidential and would not customarily be released to the public by the submitter.

You must include `business confidential' in the `type comment' field, and must add `business confidential' to the end of your file name for any attachments.

For any submission containing BCI, you also must attach a separate non-confidential version (i.e., not as part of the same submission with the BCI version), indicating where confidential information has been redacted. USTR will place the non-confidential version in the docket and it will be available for public inspection.

USTR may not accept BCI submissions that do not have the required markings, or are not accompanied by a properly marked non-confidential version, and may consider the submission to be a public document.

D. Public Viewing of Review Submissions

Submissions responding to this notice, except for information granted BCI status under 15 CFR part 2003.6, will be available for public viewing at Regulations.gov upon completion of processing. You can view submissions by entering the relevant docket number listed in section III.A in the search field at Regulations.gov.

Laura Buffo,
Deputy Assistant U.S. Trade Representative for the Generalized System of Preferences, Office of the U.S. Trade Representative.

[FR Doc. 2020-04220 Filed 2-28-20; 8:45 am]

BILLING CODE 3290-F0-P